NUCLEAR REGULATORY COMMISSION

[NRC-2021-0042]

Emergency Response Planning and Preparedness for Nuclear Power Reactors

AGENCY: Nuclear Regulatory Commission.

ACTION: Regulatory guide; issuance.

SUMMARY: The U.S. Nuclear Regulatory Commission (NRC) is issuing Revision 6 to Regulatory Guide (RG), RG 1.101, “Emergency Response Planning and Preparedness for Nuclear Power Reactors.” This revision of RG 1.101 endorses Revision 0 of the Nuclear Energy Institute (NEI) white paper, “Implementing a 24-Month Frequency for Emergency Preparedness Program Reviews,” issued in November 2019, and Appendix A, “Recommended Drill and Exercise Objectives,” to NEI 06-04, “Conducting a Hostile Action-Based Emergency Response Drill,” Revision 3, issued September 2016. In addition, this revision includes guidance found in previous revisions of RG 1.101, updated NRC guidance documents, and other documents previously endorsed by the NRC to consolidate the list of these guidance documents into a single revision of the RG.

DATES: Revision 6 to RG 1.101 is available on June 1, 2021.

ADDRESSES: Please refer to Docket ID NRC-2021-0042 when contacting the NRC about the availability of information regarding this document. You may access publicly available information related to this document using any of the following methods:

• Federal Rulemaking Website: Go to https://www.regulations.gov and search for Docket ID NRC-2021-0042. Address questions about Docket IDs in Regulations.gov to Stacy Schumann; telephone: 301-415-0624; email: Stacy.Schumann@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that a document is referenced.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

Revision 6 to RG 1.101 and the regulatory analysis may be found in ADAMS under Accession Nos. ML21111A090 and ML21004A168 respectively.

Regulatory guides are not copyrighted, and NRC approval is not required to reproduce them.

FOR FURTHER INFORMATION CONTACT: Charles Murray, Office of Nuclear Security and Incident Response, telephone: 301-287-9246, email: Charles.Murray@nrc.gov and Mekonen Bayssie, Office of Nuclear Regulatory Research, telephone: 301-415-1669, email: Mekonen.Bayssie@nrc.gov. Both are staff of the U.S. Nuclear Regulatory Commission, Washington, DC 20555-0001.

SUPPLEMENTARY INFORMATION:

I. Discussion

The NRC is issuing a revision to an existing guide in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

Revision 6 of RG 1.101 endorses and updates guidance that is available to licensees and applicants on methods acceptable to the NRC staff for complying with the NRC's regulations for emergency response plans and preparedness at nuclear power reactors. This RG applies to light water reactors, including those of an advanced design (e.g., AP1000); small modular reactors and other new non-light water reactor technologies will have design-specific RGs to support development of their emergency plans. This revision endorses Revision 0 of the NEI white paper, “Implementing a 24-Month Frequency for Emergency Preparedness Program Reviews,” issued November 2019 and Appendix A, “Recommended Drill and Exercise Objectives,” to NEI 06-04, “Conducting a Hostile Action-Based Emergency Response Drill,” Revision 3, issued September 2016. This RG revision also includes guidance found in previous revisions of RG 1.101, updated NRC guidance documents, and other documents previously endorsed by the NRC to consolidate the list of these guidance documents into a single revision of the RG.

Revision 6 of RG 1.101 was issued with a temporary identification of Draft Regulatory Guide, DG-1357 (ADAMS Accession No. ML21007A330).

II. Additional Information

The NRC published a notice of availability of DG-1357 in the Federal Register on March 17, 2021, (86 FR 14651) for a 30-day public comment period. The public comment period ended on April 16, 2021, and the NRC received one public comment submission. The public comment and the NRC's response to the comment are available in ADAMS under Accession No. ML21111A091.

III. Congressional Review Act

This RG is a rule as defined in the Congressional Review Act (5 U.S.C. 801-808). However, the Office of Management and Budget has not found it to be a major rule as defined in the Congressional Review Act.

IV. Backfitting, Forward Fitting, and Issue Finality

Revision 6 of RG 1.101 describes methods acceptable to the NRC staff for complying with the NRC's regulations to meet the regulatory requirements for emergency response planning and preparedness. Issuance of this RG does not constitute backfitting as defined in section 50.109 of the Code of Federal Regulation (10 CFR), “Backfitting,” and as described in NRC Management Directive (MD) 8.4, “Management of Backfitting, Forward Fitting, Issue Finality, and Information Requests”; constitute forward fitting as that term is defined and described in MD 8.4; or affect the issue finality of any approval issued under 10 CFR part 52, “Licenses, certifications, and approvals for nuclear power plants.” As explained in RG 1.101, applicants and licensees are not required to comply with the positions set forth in RG 1.101.

Dated: May 25, 2021.
For the Nuclear Regulatory Commission.
Meraj Rahimi,
Chief, Regulatory Guidance and Generic Issues Branch, Division of Engineering, Office of Nuclear Regulatory Research.

[FR Doc. 2021-11434 Filed 5-28-21; 8:45 am]

BILLING CODE 7590-01-P